DEPARTMENT OF COMMERCE

International Trade Administration

[A-489-501]

Welded Carbon Steel Standard Pipe and Tube Products From Turkey: Preliminary Results of Antidumping Duty Administrative Review; 2012-2013

AGENCY: Enforcement and Compliance, International Trade Administration, U.S. Department of Commerce.

SUMMARY: In response to a request by interested parties,¹ the Department of Commerce (the Department) is conducting an administrative review of the antidumping duty order on welded carbon steel standard pipe and tube products (welded pipe and tube) from Turkey.² The period of review is May 1, 2012, to April 30, 2013. This review covers the following companies: Borusan Holding A.S., Borusan Istikbal Ticaret T.A.S., Borusan Lojistik Dagitim Depolama Tasimacilik ve Tic A.S., Borusan Mannesmann Boru Sanayi ve Ticaret A.S., Cayirova Boru Sanayi ve Ticaret A.S., ERBOSAN Erciyas Boru Sanayi ve Ticaret A.S., Guven Celik Boru San. ve Tic. Ltd., Guven Steel Pipe, Metaleks Celik Urunleri San. ve Tic. Ltd. Sti., Metaliks Celik Urunkeri San. ve Tic. Ltd., The Borusan Group, Toscelik Metal Ticaret A.S., Toscelik Profil ve Sac Endustisi A.S., Toscelik Profil ve Sac Endustrisi A.S., Tosyali Dis Ticaret A.S., Umran Celik Boru Sanayii A.S., Umran Steel Pipe Inc., Yucel Boru ve Profil Endustrisi A.S, Yucelboru Ihracat Ithalat ve Pazarlama A.S., and Yucel Group. The Department preliminarily finds that all of the aforementioned firms had no shipments, with the exception of Borusan Mannesmann Boru Sanayi ve Ticaret A.S. and Toscelik Profil ve Sac Endustrisi A.S.³ We preliminarily determine that Borusan made U.S. sales below normal value, and that Toscelik did not make U.S. sales below normal value. The preliminary results are listed below in the section titled “Preliminary Results of Review.”

¹ Wheatland Tube Company, United States Steel Corporation, and Borusan Mannesmann Boru Sanayi ve Ticaret AS.

² See Initiation of Antidumping and Countervailing Duty Administrative Reviews and Request for Revocation in Part, 78 FR 38924 (June 28, 2013) (Initiation Notice). The Initiation Notice inadvertently referenced the incorrect order title. See id. The Federal Register notice and memorandum accompanying these preliminary results use the original and correct order title, as reflected in the original 1985 order. See Antidumping Duty Order; Welded Carbon Steel Standard Pipe and Tube Products from Turkey, 51 FR 17784 (May 15, 1986).

³ In prior segments of this proceeding, we have treated Borusan Mannesmann Boru Sanayi ve Ticaret A.S., Borusan Istikbal Ticaret T.A.S., and Borusan Lojistik Dagitim Depolama Tasimacilik ve Tic A.S. as the same legal entity. See, e.g., customs message number 4008308, dated January 8, 2014. We preliminarily determine that there is no evidence on the record for altering such treatment of these parties, referred to collectively as “Borusan.” In prior segments of this proceeding we have also treated Toscelik Profil ve Sac Endustrisi A.S., Toscelik Metal Ticaret A.S., and Tosyali Dis Ticaret A.S. as the same legal entity. See, e.g., customs message number 4021306, dated January 21, 2014. Based on information on the record of this review, we have preliminarily determined that Toscelik Metal Ticaret A.S. ceased existence prior to the POR. See the October 31, 2013 questionnaire response of Toscelik Profil ve Sac Endustrisi A.S. and Tosyali Dis Ticaret A.S. at 3. Therefore, for these preliminary results, we treat only Toscelik Profil ve Sac Endustrisi A.S. and Tosyali Dis Ticaret A.S. as the same legal entity, referred to collectively as “Toscelik.”

DATES: Effective Date: June 25, 2014.

FOR FURTHER INFORMATION CONTACT: Fred Baker, Victoria Cho, or Robert James at (202) 482-2924, (202) 482-5075, or (202) 482-0649, respectively; AD/CVD Operations, Office VI, Enforcement and Compliance, International Trade Administration, U.S. Department of Commerce, 14th Street and Constitution Avenue NW., Washington, DC 20230.

SUPPLEMENTARY INFORMATION:

Scope of the Order

The merchandise subject to the order is welded pipe and tube. The welded pipe and tube subject to the order is currently classifiable under subheading 7306.30.10.00, 7306.30.50.25, 7306.30.50.32, 7306.30.50.40, 7306.30.50.55, 7306.30.50.85, and 7306.30.50.90 of the Harmonized Tariff Schedule of the United States (HTSUS). The HTSUS subheading is provided for convenience and customs purposes. A full description of the scope of the order is contained in the memorandum from Christian Marsh, Deputy Assistant Secretary for Antidumping and Countervailing Duty Operations, to Paul Piquado, Assistant Secretary for Enforcement and Compliance, “Decision Memorandum for Preliminary Results of Antidumping Duty Administrative Review: Welded Carbon Steel Standard Pipe and Tube Products from Turkey; 2012-2013 Administrative Review” (Preliminary Decision Memorandum), which is hereby adopted by this notice. The written description is dispositive.

The Preliminary Decision Memorandum is a public document and is on file electronically via Enforcement and Compliance's Antidumping and Countervailing Duty Centralized Electronic Service System (IA ACCESS). Access to IA ACCESS is available to registered users at http://iaaccess.trade.gov and is available to all parties in the Central Records Unit, Room 7046 of the main Department of Commerce building. In addition, a complete version of the Preliminary Decision Memorandum can be accessed directly on the Internet at http://enforcement.trade.gov/frn/index.html. The signed Preliminary Decision Memorandum and the electronic versions of the Preliminary Decision Memorandum are identical in content.

Methodology

The Department has conducted this review in accordance with section 751(a)(2) of the Tariff Act of 1930, as amended (the Act). Export price is calculated in accordance with section 772 of the Act. Normal value (NV) is calculated in accordance with section 773 of the Act.

To determine the appropriate comparison method, the Department applied a “differential pricing” analysis and has preliminarily determined to use the average-to-transaction method to calculate the weighted-average dumping margin for Borusan, and the average-to-average method to calculate the weighted-average dumping margin for Toscelik.

For a full description of the methodology underlying our conclusions, see the Preliminary Decision Memorandum.

Preliminary Determination of No Shipments

The following companies submitted letters to the Department indicating they had no shipments, sales, or entries of subject merchandise during the POR: Metaleks Celik Urunleri San. ve Tic. Ltd. Sti., on July 2, 2013; ERBOSAN Erciyas Boru Sanayi ve Ticaret A.S., on July 29, 2013; Umran Celik Boru Sanayii A.S. and Umran Steel Pipe Inc., on August 5, 2013; Guven Celik Boru San. ve Tic. Ltd. and Guven Steel Pipe, on August 7, 2013; and Cayirova Boru Sanayi ve Ticaret A.S., Yucel Boru ve Profil Endustrisi A.S, Yucelboru Ihracat Ithalat ve Pazarlama A.S., self-identified as the Yucel Group companies, on March 27, 2014.

On April 8, 2014, the Department issued a “No Shipment Inquiry” to U.S. Customs and Border Protection (CBP) to confirm that there were no entries of welded pipe and tube from Turkey produced and/or exported by the aforementioned companies during the POR. CBP did not respond to our inquiry with any indication that merchandise had entered during the POR that was produced and/or exported by the companies referenced in the inquiry. In addition, we obtained other documentation from CBP that supports the conclusion that there were no such entries during the POR for the companies in question.

Based on the certifications, CBP's lack of a positive response to our inquiry, and analysis of the other information on the record referenced above, we preliminarily determine the aforementioned companies identified in the Department's inquiry to CBP had no shipments during the POR. However, consistent with our practice, the Department finds that it is not appropriate to rescind the review with respect to those companies, but rather to complete the review with respect to them, and to issue appropriate instructions to CBP based on the final results of this review.

Preliminary Results of Review

As a result of this review, we preliminarily determine that the weighted-average dumping margins for the period May 1, 2012, through April 30, 2013, are as follows:

Producer or exporter | Weighted-average dumping margin (percent)
Borusan Mannesmann Boru Sanayi ve Ticaret A.S.⁴ | 1.28
Toscelik Profil ve Sac Endustrisi A.S.⁵ | 0.00

Disclosure and Public Comment

The Department will disclose to interested parties the calculations performed in connection with these preliminary results within five days of the date of publication of this notice.⁶ Pursuant to 19 CFR 351.309(c), interested parties may submit cases briefs no later than 30 days after the date of publication of this notice.⁷ Rebuttal briefs, limited to issues raised in the case briefs, may be filed not later than five days after the date for filing case briefs.⁸ Parties who submit case briefs or rebuttal briefs in this proceeding are encouraged to submit with each argument: (1) A statement of the issue; (2) a brief summary of the argument; and (3) a table of authorities.⁹ Case and rebuttal briefs should be filed using IA ACCESS.¹⁰ In order to be properly filed, IA ACCESS must successfully receive an electronically-filed document in its entirety by 5 p.m. Eastern Time.

⁴ Also includes Borusan Istikbal Ticaret T.A.S. and Borusan Lojistik Dagitim Depolama Tasimacilik ve Tic A.S.

⁵ Also includes Tosyali Dis Ticaret A.S.

⁶ See 19 CFR 351.224(b).

⁷ See 19 CFR 351.309(c)(ii).

⁸ See 19 CFR 351.309(d).

⁹ See 19 CFR 351.309(c)(2) and (d)(2).

¹⁰ See 19 CFR 351.303.

Pursuant to 19 CFR 351.310(c), interested parties who wish to request a hearing, or to participate if one is requested, must submit a written request to the Assistant Secretary for Enforcement and Compliance, filed electronically via IA ACCESS, within 30 days after the date of publication of this notice.¹¹ Requests should contain: (1) The party's name, address, and telephone number; (2) the number of participants; and (3) a list of issues to be discussed. Issues raised in the hearing will be limited to those raised in the respective case briefs.

¹¹ See 19 CFR 351.310(c).

The Department will issue the final results of this administrative review, including the results of its analysis of the issues raised in any written briefs, not later than 120 days after the date of publication of this notice, pursuant to section 751(a)(3)(A) of the Act.

Assessment Rates

Upon completion of the administrative review, the Department shall determine, and CBP shall assess, antidumping duties on all appropriate entries in accordance with 19 CFR 351.212(b)(1). We intend to issue instructions to CBP 15 days after the date of publication of the final results of this review.

If Borusan's or Toscelik's weighted-average dumping margins are not zero or de minimis (i.e., less than 0.5 percent) in the final results of this review, we will calculate importer-specific assessment rates on the basis of the ratio of the total amount of dumping calculated for the importer's examined sales and the total entered value of the sales in accordance with 19 CFR 351.212(b)(1). Where either a respondent's weighted-average dumping margin is zero or de minimis, or an importer-specific assessment rate is zero or de minimis, we will instruct CBP to liquidate the appropriate entries without regard to antidumping duties.

Cash Deposit Requirements

The following cash deposit requirements will be effective for all shipments of the subject merchandise entered, or withdrawn from warehouse, for consumption on or after the publication date of the final results of this administrative review, as provided by section 751(a)(2)(C) of the Act: (1) The cash deposit rate for Borusan and Toscelik will be equal to the weighted-average dumping margin established in the final results of this review, except if the rate is de minimis within the meaning of 19 CFR 351.106(c)(1), in which case the cash deposit rate will be zero; (2) for other manufacturers and exporters covered in a prior segment of the proceeding, the cash deposit rate will continue to be the company-specific rate published for the most recently completed segment of this proceeding in which that manufacturer or exporter participated; (3) if the exporter is not a firm covered in this review, a prior review, or the original less-than-fair-value (LTFV) investigation, but the manufacturer is, then the cash deposit rate will be the rate established for the most recently completed segment of this proceeding for the manufacturer of subject merchandise; and (4) the cash deposit rate for all other manufacturers or exporters will continue to be 14.74 percent, the all-others rate established in the LTFV investigation.¹² These deposit requirements, when imposed, shall remain in effect until further notice.

¹² See Antidumping Duty Order; Welded Carbon Steel Standard Pipe and Tube Products From Turkey, 51 FR 17784, 17784 (May 15, 1986).

Notification

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification to Interested Parties

We are issuing and publishing these results in accordance with sections 751(a)(1) and 777(i)(1) of the Act.

Dated: June 18, 2014.
Ronald Lorentzen,
Acting Assistant Secretary for Enforcement and Compliance.

Appendix

List of Topics Discussed in the Preliminary Decision Memorandum

1. Summary

2. Background

3. Scope of the Order

4. Preliminary Determination of No Shipments

5. Comparisons to Normal Value

6. Product Comparisons

7. Date of Sale

8. Export Price

9. Normal Value

10. Currency Conversion

11. Recommendation

[FR Doc. 2014-14856 Filed 6-24-14; 8:45 am]

BILLING CODE 3510-DS-P